DEPARTMENT OF HEALTH AND HUMAN SERVICES

Health Resources and Services Administration

Meeting of the Advisory Committee on Training and Primary Care Medicine and Dentistry

AGENCY: Health Resources and Services Administration (HRSA), Department of Health and Human Services.

ACTION: Notice.

SUMMARY: In accordance with the Federal Advisory Committee Act, this notice announces that the Advisory Committee on Training in Primary Care Medicine and Dentistry (ACTPCMD or Committee) will hold one additional public meeting in the 2024 calendar year. Information about ACTPCMD, agendas, and materials for these meetings can be found on the ACTPCMD website at https://www.hrsa.gov/advisory-committees/primarycare-dentist/meetings. This notice is consistent with the information about ACTPCMD's calendar year 2024 meetings found in the Federal Register notice dated May 15, 2024, Meeting of the Advisory Committee on Training and Primary Care Medicine and Dentistry.

DATES: The ACTPCMD meeting will be held on:

• November 15, 2024, 10:00 a.m.-5:00 p.m. Eastern Time.

ADDRESSES: This meeting will be held by teleconference and/or a video conference platform. For updates on how the meeting will be held, visit the ACTPCMD website 20 days before the date of the meeting, where instructions for joining the meeting will be posted. For meeting information updates, go to the ACTPCMD website meeting page at https://www.hrsa.gov/advisory-committees/primarycare-dentist/meetings.

FOR FURTHER INFORMATION CONTACT: Shane Rogers, Designated Federal Officer, Division of Medicine and Dentistry, Bureau of Health Workforce, HRSA, 5600 Fishers Lane, Room 15N102, Rockville, Maryland 20857; 301-443-5260; or SRogers@hrsa.gov.

SUPPLEMENTARY INFORMATION: ACTPCMD provides advice and recommendations to the Secretary of Health and Human Services on policy, program development, and other matters of significance concerning the activities under Section 747 of Title VII of the Public Health Service (PHS) Act, as it existed upon the enactment of Section 749 of the PHS Act in 1998. ACTPCMD prepares an annual report describing the activities of the committee, including findings and recommendations made by the committee concerning the activities under Section 747, as well as training programs in oral health and dentistry. The annual report is submitted to the Secretary of Health and Human Services as well as the Chair and ranking members of the Senate Committee on Health, Education, Labor and Pensions and the House of Representatives Committee on Energy and Commerce. ACTPCMD also develops, publishes, and implements performance measures and guidelines for longitudinal evaluations of programs authorized under Title VII, Part C of the PHS Act, and recommends appropriation levels for programs under this Part.

Since priorities dictate meeting times, be advised that start times, end times, and agenda items are subject to change. For the November 15th meeting, agenda items may include, but are not limited to, discussion of recommendations for the committee's 23rd report, as well as exploratory topic discussions for the committee's 24th report. Refer to the ACTPCMD website listed above for all current and updated information concerning the November 15th ACTPCMD meeting, including the agenda and meeting materials that will be posted 20 calendar days before the meeting.

Members of the public will have the opportunity to provide comments. Public participants may submit written statements in advance of the scheduled meeting. Oral comments will be honored in the order they are requested and may be limited as time allows. Requests to submit a written statement or make oral comments to the ACTPCMD should be sent to Shane Rogers using the contact information above at least 5 business days before the meeting date.

Individuals who need special assistance or another reasonable accommodation should notify Shane Rogers using the contact information listed above at least 10 business days before the meeting they wish to attend.

Maria G. Button,
Director, Executive Secretariat.

[FR Doc. 2024-24328 Filed 10-21-24; 8:45 am]

BILLING CODE 4165-15-P